COMMITTEE FOR PURCHASE FROM PEOPLE WHO ARE BLIND OR SEVERELY DISABLED

Procurement List Proposed Additions and Deletions

AGENCY: Committee for Purchase From People Who Are Blind or Severely Disabled.

ACTION: Proposed Additions to and Deletions from the Procurement List.

SUMMARY: The Committee is proposing to add products and service to the Procurement List that will be furnished by nonprofit agencies employing persons who are blind or have other severe disabilities and to delete products previously furnished by such agencies.

Comments Must Be Received on or Before: 11/28/2011.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or email CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

NSN: 5340-00-602-4977—Bracket, Mounting, Hercules M88A2 Recovery Vehicle

NSN: 5340-00-627-5411—Bracket, Mounting, Stratofortress B-52 Aircraft

NSN: 5340-01-078-7642—Bracket, Mounting, Abrams M-1 Tank

NSN: 5340-01-084-1232—Bracket, Mounting, Cargo Truck

NSN: 5340-01-098-5119—Bracket, Mounting, Howitzer M-109

NSN: 5340-01-102-3483—Bracket, Angle, Abrams M-1 Tank

NSN: 5340-01-112-9693—Bracket, Angle, Bradley Fighting Vehicle System

NSN: 5340-01-162-7040—Bracket, Angle, Personnel M113A1, M113-A2, M-113A3 Armored Carrier

NSN: 5340-01-163-4245—Bracket, Double Angle, Hercules M88A2 Recovery Vehicle

NSN: 5340-01-167-1810—Bracket, Mounting, Personnel M113A1, M113-A2, M-113A3 Armored Carrier

NSN: 5340-01-218-8346—Bracket, Angle, Aviation

NSN: 5340-01-230-0219—Bracket, Angle, Abrams M-1 Tank

NSN: 5340-01-272-6634—Bracket, Mounting, Truck 1¼ Ton HMMWV Vehicle System

NSN: 5340-01-288-5231—Bracket, Double Angle, Bradley Fighting Vehicle System

NSN: 5340-01-329-8589—Bracket, Mounting, Bradley Fighting Vehicle System

NSN: 5340-01-347-9608—Bracket, Mounting, F-16 Aircraft

NSN: 5340-01-386-2917—Bracket, Angle, Command AAVC-7A1 Amphibious Assault Vehicle

NSN: 5340-01-458-0473—Bracket, Mounting, M-16 Rifle 5.56MM

NSN: 5340-01-500-4197—Bracket, Mounting, Mine Resistant Ambush Protected Fighting Vehicle

NSN: 5340-01-519-7318—Bracket, Angle, Truck 1¼ Ton HMMWV Vehicle System

NSN: 5340-01-521-0196—Bracket, Mounting, Non-Weapons System

NSN: 5340-01-525-0574—Bracket, Angle, Medium Tactical Vehicles

NSN: 5340-01-525-0579—Bracket, Angle, Medium Tactical Vehicles

NPA: Herkimer County Chapter, NYSARC, Herkimer, NY

Contracting Activity: DEFENSE LOGISTICS AGENCY TROOP SUPPORT, HARDWARE L&M, PHILADELPHIA, PA

COVERAGE: C-List for 100% of the requirement of the Department of Defense, as aggregated by the Defense Logistics Agency Troop Support, Hardware L&M, Philadelphia, PA.

Service

Service Type/Location: Industrial Laundry Service, Bureau of Engraving and Printing, (Offsite: 880 Mustang Dr., Grapevine, TX), 9000 Blue Mound Road, Fort Worth, TX

NPA: Goodwill Industrial Services of Fort Worth, Inc., Fort Worth, TX

Contracting Activity: DEPT OF TREASURY, BUREAU OF ENGRAVING AND PRINTING, WASHINGTON, DC

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

NSN: 7490-01-483-8984—Paper Shredder, Cross Cut

NSN: 7490-01-483-8985—Paper Shredder, Strip Cut

NSN: 7490-01-483-8990—Paper Shredder, Strip Cut

NSN: 7490-01-483-8991—Paper Shredder, Cross Cut

NPA: L.C. Industries for the Blind, Inc., Durham, NC

Contracting Activity: GENERAL SERVICES ADMINISTRATION, NEW YORK, NY

Patricia Briscoe,
Deputy Director, Business Operations, (Pricing and Information Management).

[FR Doc. 2011-27925 Filed 10-27-11; 8:45 am]

BILLING CODE 6353-01-P